DEPARTMENT OF THE INTERIOR

National Park Service

National Register of Historic Places; Notification of Pending Nominations

Nominations for the following properties being considered for listing in the National Register were received by the National Park Service before November 3, 2000. Pursuant to § 60.13 of 36 CFR Part 60 written comments concerning the significance of these properties under the National Register criteria for evaluation may be forwarded to the National Register, National Park Service, 1849 C St. NW, NC400, Washington, DC 20240. Written comments should be submitted by November 30, 2000.

Carol D. Shull,
Keeper of the National Register.

CONNECTICUT

New Haven County

New England Cement Company Kiln and Quarry, Address Restricted, Woodbridge, 00001454

GEORGIA

Echols County

Corbett Farm, Rte 2, Lake Park, 00001455

ILLINOIS

Vermilion County

Temple Building, 102-106 N. Vermilion St., Danville, 00001457

IOWA

Marion County

East Amsterman School, 1010 198th Place, Pella, 00001471

Polk County

Hallett Flat—Rawson & Co. Apartment Building, 1301-1307 Locust St., Des Moines, 00001456

MARYLAND

Baltimore Independent City

Standard Oil Building, 501 St. Paul St., Baltimore (Independent City), 00001461

Washington County

Hills, Dales, and the Vineyard, 16 Dogstreet Rd., Keedysville, 00001460

MASSACHUSETTS

Berkshire County

Jacob's Pillow Dance Festival, George Carter Rd., Becket, 00001458

MISSISSIPPI

Hinds County

Evers, Medgar, House, 2332 Margaret Walker Alexander Dr., Jackson, 00001459

Hinds County Armory, 1012 Mississippi St., Jackson, 00001462

NEW HAMPSHIRE

Coos County

Weeks, William Dennis, Memorial Library, 128 Main St., Lancaster, 00001464

Merrimack County

Durgin, Gershom, House, 391 Franklin Hwy.,

Rockingham County

Danville Town House, 210 Main St., NH 111A, Danville, 00001465

NEW JERSEY

Somerset County

Relief Home Company No. 2 Engine House, 16 Anderson St., Raritan Borough, 00001466

NEW YORK

Niagara County

District #10 Schoolhouse, (Cobblestone Architecture of New York State MPS) 9713 Seaman Rd., Hartland, 00001467

Oswego County

Oswego West Pierhead Lighthouse, Lake Ontario, 0.5 mi. N of Oswego R., Oswego, 00001468

WASHINGTON

Whatcom County

Nuxwt'iqw'em, Address Restricted, Upper Middle Fork, 00001472

WISCONSIN

Vernon County

Masonic Temple Building, 116 S. Main St., Viroquoa, 00001469

WYOMING

Converse County

North Douglas Historic District, Roughly bounded by Second St., Clay St., Sixth St., and Center St., Douglas, 00001470

A Request for a MOVE has been made for the following resource:

CONNECTICUT

Litchfield County

Sloan-Raymond-Fitch House, 249 Danbury Rd., Wilton, 82004344

[FR Doc. 00-29120 Filed 11-14-00; 8:45 am]

BILLING CODE 4310-70-P